FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 14, 2017.

A. Federal Reserve Bank of Richmond (Adam M. Drimer, Assistant Vice President) 701 East Byrd Street, Richmond, Virginia 23261-4528. Comments can also be sent electronically to Comments.applications@rich.frb.org:

1. David M. Thomas, Morgantown, West Virginia, to individually retain voting shares, and by the Brian F. Thomas Revocable Trust—2015, the Mary F. Thomas Trust, Staci Thomas, Morgantown, West Virginia, Sandra Thomas, Morgantown, West Virginia, and Kendall Thomas, Bruceton Mills, West Virginia; to join the previously approved Thomas family control group, and thereby acquire voting shares of State Bancorp, Inc. and thereby acquire voting shares of Clear Mountain Bank, both of Bruceton Mills, West Virginia.

Board of Governors of the Federal Reserve System, July 25, 2017.
Yao-Chin Chao,
Assistant Secretary of the Board.

[FR Doc. 2017-15967 Filed 7-27-17; 8:45 am]

BILLING CODE 6210-01-P